DEPARTMENT OF HEALTH AND HUMAN SERVICES

Administration on Aging

Funding Opportunity: Affordable Care Act Medicare Beneficiary Outreach and Assistance Program Funding for Title VI Native American Programs

Purpose of Notice: Availability of funding opportunity announcement.

Funding Opportunity Title/Program Name: Affordable Care Act Medicare Beneficiary Outreach and Assistance Program Funding for Title VI Native American Programs.

Announcement Type: Initial.

Funding Opportunity Number: HHS-2010-AoA-MI-1022.

Statutory Authority: The Medicare Improvements for Patients and Providers Act of 2008—Section 119, Public Law 110-275 as amended by the Patient Protection and Affordable Care Act of 2010 (Affordable Care Act).

Catalog of Federal Domestic Assistance (CFDA) Number: 93.071. Discretionary Projects

DATES: The deadline date for the submission of applications is July 30, 2010.

I. Funding Opportunity Description

AoA will provide a grant of $1,000 to each Older Americans Act Title VI Native American program awardee. The purpose of these grants will be for the coordination of at least one community announcement and at least one outreach event to inform and assist eligible Native American elders about the benefits available to them through Medicare Part D, the Low Income Subsidy, the Medicare Savings Program, or Medicare prevention benefits and screenings. The example of $1,000 per event is for illustrative purposes only. There is data available from the National Association of Area Agencies on Aging (n4a) and studies performed by the National Council on Aging (NCOA) that reflect these costs for planning and implementing a community event for Medicare Part D and LIS outreach activities.

A detailed description of the funding opportunity may be found at http://www.aoa.gov/doingbus/fundopp/fundopp.aspx

II. Award Information

1. Funding Instrument Type

These awards will be made in the form of grants to Title VI Native American Programs.

2. Anticipated Total Priority Area Funding per Budget Period

AoA intends to make available, under this program announcement, grant awards for $1,000 to 246 projects at a federal share of approximately $246,000 total for a project period of 1 year.

III. Eligibility Criteria and Other Requirements

1. Eligible Applicants

Only current Older Americans Act Title VI Native American Program grantees are eligible to apply for this funding.

2. Cost Sharing or Matching

Cost Sharing does not apply.

3. DUNS Number

All grant applicants must obtain a D-U-N-S number from Dun and Bradstreet. It is a nine-digit identification number, which provides unique identifiers of single business entities. The D-U-N-S number is free and easy to obtain from http://www.dnb.com/US/duns_update/.

4. Intergovernmental Review

Executive Order 12372, Intergovernmental Review of Federal Programs, is not applicable to these grant applications.

IV. Application and Submission Information

1. Address to Request Application

Application kits are available by writing to the U.S. Department of Health and Human Services, Administration on Aging, Office for American Indian, Alaskan Native, and Native Hawaiian Programs, Washington, DC 20201, attention: Yvonne Jackson or by calling 202-357-3501, or online at http://www.grants.gov.

2. Address for Application Submission

Applications may be submitted by e-mail to grants.office@aoa.hhs.gov, by fax to 202-357-3467 or in hard copy by overnight delivery to the U.S. Department of Health and Human Services, Administration on Aging, Office of Grants Management, Washington, DC 20201, Attn. Sean Lewis.

3. Submission Dates and Times

To receive consideration, applications must be submitted by 11:59 Eastern time by the deadline listed in the “Dates” section at the beginning of this Notice.

V. Responsiveness Criteria

Does not apply.

VI. Application Review Information

Does not apply.

VII. Agency Contacts

Direct inquiries regarding programmatic issues to U.S. Department of Health and Human Services, Administration on Aging, Office for American Indian, Alaskan Native, and Native Hawaiian Programs, Washington, DC 20201, attention: Yvonne Jackson or by calling 202-357-3501, or by e-mail at Yvonne.jackson@aoa.hhs.gov.

Dated: May 18, 2010.
Kathy Greenlee,
Assistant Secretary for Aging.

[FR Doc. 2010-13651 Filed 6-7-10; 8:45 am]

BILLING CODE 4154-01-P